DEPARTMENT OF ENERGY

Federal Energy Regulatory Commission

[Docket No. RM99-2-000]

Regional Transmission Organizations; Notice Providing Further Details on Procedures for Order No. 2000 Filings

October 6, 2000.

In a notice issued on July 20, 2000,¹ the Commission offered guidance on procedures for making filings in compliance with Order No. 2000 ² and the regulations promulgated by that order.³ This notice provides further details on filing procedures in response to questions addressed to the Secretary's office.

¹ Notice of Guidance for Processing Order No. 2000 Filings, 92 FERC ¶ 61,048 (2000).

² Regional Transmission Organizations, Order No. 2000, 65 Fed. Reg. 809 (January 6, 2000), FERC Stats. and Regs. ¶ 31,089 (1999), order on reh'g, Order No. 2000-A, 65 Fed. Reg. 12,088 (March 8, 2000), FERC Stats. and Regs. ¶ 31,092 (2000).

³ 18 CFR 35.34.

Timing of Filings

Section 35.34(c) sets forth the general rule that filings are due by October 15, 2000, and section 35.34(h) establishes January 15, 2001 as the deadline for public utilities already participating in approved transmission entities.⁴ Attached as an appendix to the July 20 notice was a list of the public utilities that the Commission deems to be within section 35.34(h) with a January 15, 2001 filing deadline. It has been called to the Commission's attention that some public utilities that should be subject to the January 15, 2001 filing deadline were inadvertently omitted from that appendix. This omission will not be considered controlling for compliance purposes. Any public utility required to make an Order No. 2000 compliance filing, and that satisfies the section 35.34(h) criteria,⁵ may file by January 15, 2001 even if inadvertently omitted from the appendix. Any public utility required to make an Order No. 2000 compliance filing that does not meet the section 35.34(h) criteria is expected to make a filing specified by section 35.34(d) or (g) by October 15, 2000.⁶

⁴ Because October 15, 2000 falls on a Sunday, and January 15, 2001 falls on a holiday, the filings are due by close of business on October 16, 2000, and January 16, 2001, respectively. See 18 CFR 385.2007(a)(2).

⁵ Section 35.34(h) applies to every “public utility that owns, operates or controls facilities used for the transmission of electric energy in interstate commerce as of March 6, 2000, and that has filed with the Commission on or before March 6, 2000 to transfer operational control of its facilities to a transmission entity that has been approved or conditionally approved by the Commission on or before March 6, 2000 as being in conformance with the eleven ISO principles set forth in Order No. 888 * * *.”

⁶ With respect to any public utility that has filed to transfer operational control of its transmission facilities to an approved transmission entity as defined in section 35.34(h) but had not done so as of March 6, 2000, and with respect to any public utility that has made a firm commitment to participate in an RTO compliance filing that will be made by January 15, 2001, the filing due by October 15, 2000 may be brief, but should state clearly the filer's intent to participate in the future compliance filing.

Docketing of Filings

The Commission has established the new “RT” prefix for docket numbers that will be assigned to any filing made in compliance with Order No. 2000. The Commission requests that all public utilities making compliance filings required by section 35.34(c) or (h) of the regulations put the “RT” docket prefix in the docket area of their filings.

The Commission intends to assign the same docket number to all components of a single RTO proposal, including any filings made pursuant to sections 203 and 205 of the Federal Power Act and any petitions for declaratory order pursuant to section 35.34(d)(3) of the regulations. Accordingly, those filing an RTO proposal are encouraged to file it as a single package and clearly identify how the contents of the package satisfy all applicable statutory and regulatory requirements.

Filings by Non-Jurisdictional Entities

To the extent any non-public utility (that is not subject to Federal Power Act section 203 or 205 jurisdiction) wants to make a voluntary filing regarding how its electric transmission facilities may or may not be included in an RTO, it may do so in the following ways. If the non-public utility is participating in an RTO proposal, it may join in the RTO filing without jeopardizing its non-jurisdictional status. If the non-public utility wishes to comment on a particular RTO compliance filing, it may do so during the comment period that will be established in the notice of each compliance filing. Finally, if the non-public utility wishes to make an informational filing informing the Commission generally of its status with respect to RTO formation, it may make such a filing in Docket No. RT01-1-000.

Linwood A. Watson, Jr.,
Acting Secretary.

[FR Doc. 00-26292 Filed 10-12-00; 8:45 am]

BILLING CODE 6717-01-M